DEPARTMENT OF TRANSPORTATION

Federal Aviation Administration

14 CFR Part 39

[Docket No. 2002-SW-41-AD; Amendment 39-13021; AD 2003-02-05]

RIN 2120-AA64

Airworthiness Directives; Eurocopter France Model AS350B, AS350BA, AS350B1, AS350B2, AS350B3, AS350C, AS350D, AS350D1, AS355E, AS355F, AS355F1, AS355F2, and AS355N Helicopters

AGENCY: Federal Aviation Administration, DOT.

ACTION: Final rule; request for comments.

SUMMARY: This amendment adopts a new airworthiness directive (AD) for certain Eurocopter France (Eurocopter) model helicopters. This action requires measuring the diameter of the sliding door roller (roller) and the dimensions of the front end opening of the sliding door middle rail (rail) to determine if excessive wear exists, and if necessary, installing a placard prohibiting the operation of the sliding door during flight. This amendment is prompted by an incident in which a roller came out of the middle rail during a door-opening operation in flight. The actions specified in this AD are intended to prevent the roller from coming out of the middle rail when opening the door, which could lead to the sliding door separating from the helicopter during flight, damage to critical flight components, and subsequent loss of control of the helicopter.

DATES: Effective February 10, 2003.

The incorporation by reference of certain publications listed in the regulations is approved by the Director of the Federal Register as of February 10, 2003.

Comments for inclusion in the Rules Docket must be received on or before March 25, 2003.

ADDRESSES: Submit comments in triplicate to the Federal Aviation Administration (FAA), Office of the Regional Counsel, Southwest Region, Attention: Rules Docket No. 2002-SW-41-AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Gary Roach, Aviation Safety Engineer, FAA, Rotorcraft Directorate, Rotorcraft Standards Staff, Fort Worth, Texas 76193-0111, telephone (817) 222-5130, fax (817) 222-5961.

SUPPLEMENTARY INFORMATION: The Direction Generale De L'Aviation Civile (DGAC), which is the airworthiness authority for France, notified the FAA that an unsafe condition may exist on Eurocopter Model AS350 and AS355 helicopters. The DGAC advises that there has been one report of a sliding door aft roller dislodgment in flight due to severe wear on the rail.

Eurocopter has issued Alert Telex No. 05.00.41, applicable to Model AS350 helicopters, and Alert Telex No. 05.00.39, applicable to Model AS355 helicopters, both dated May 16, 2002, which specify measuring the diameter of the sliding door aft roller and rail opening dimension to determine wear, and prohibit operating the door during flight if certain dimensions are exceeded. The DGAC classified these alert telexes as mandatory and issued AD No. 2002-344-093(A), applicable to Model AS350 helicopters, and AD No. 2002-345-070(A), applicable to Model AS355 helicopters, both dated June 26, 2002, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other helicopters of the same type designs registered in the United States. Therefore, this AD is being issued to prevent the roller from coming out of the middle rail when operating the door, which could lead to the sliding door separating from the helicopter during flight and possibly damaging critical flight components, resulting in subsequent loss of control of the helicopter. This AD requires, before further flight and thereafter at intervals not to exceed 100 hours time-in-service, measuring the diameter of the roller and the dimensions of the front end opening of the sliding door rail for wear, and if necessary, installing a placard prohibiting operating the sliding door during flight. The actions must be accomplished in accordance with the alert telexes described previously. The short compliance time involved is required because the previously described critical unsafe condition can adversely affect the controllability or structural integrity of the helicopter. Therefore, measuring the diameter of the roller and the dimensions of the rail to determine if excessive wear exists, and if necessary, installing a placard prohibiting the opening of the sliding door during flight is required prior to further flight, and this AD must be issued immediately.

Since a situation exists that requires the immediate adoption of this regulation, it is found that notice and opportunity for prior public comment hereon are impracticable, and that good cause exists for making this amendment effective in less than 30 days.

The FAA estimates that 50 helicopters will be affected by this AD, that it will take approximately 1 work hour to measure the roller and rail, and 1 work hour to make and apply a placard to the inside door, if necessary, and that the average labor rate is $60 per work hour. Required parts will cost approximately $10 per helicopter if installing a placard is necessary. Based on these figures, the total cost impact of the AD on U.S. operators is estimated to be $21,500 per year, assuming each helicopter in the fleet is measured 6 times per year, assuming no placards will be necessary.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-41-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-02-05 Eurocopter France: Amendment 39-13021. Docket No. 2002-SW-41-AD.

Applicability: Model AS350B, AS350BA, AS350B1, AS350B2, AS350B3, AS350C, AS350D, AS350D1, AS355E, AS355F, AS355F1, AS355F2, and AS355N helicopters, with sliding door middle rail (middle rail) left upper, part number (P/N) 350A21-1027-36, left lower, P/N 350A21-1027-20, right upper, P/N 350A21-1027-39, right lower, P/N 350A21-1027-21, sliding door roller (roller), P/N 350A25-1274-24, and plate support, P/N 350A21-1335-20, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight, unless accomplished previously, then at intervals not to exceed 100 hours time-in-service (TIS).

To prevent the roller from coming out of the middle rail when operating the door, which could lead to the sliding door separating from the helicopter during flight, damage to critical flight components, and subsequent loss of control of the helicopter, accomplish the following:

(a) Measure the diameter of the roller and the dimensions of the front end opening of the middle rail in accordance with the Accomplishment Instructions, paragraph 2.B., of Eurocopter Alert Telex No. 05.00.41, applicable to Model AS350 helicopters, and Eurocopter Alert Telex No. 05.00.39, applicable to Model AS355 helicopters, both dated May 16, 2002 (Alert Telexes).

(1) If the rail opening or roller diameter is beyond the permissible limits stated in the Accomplishment Instructions, paragraph 2.B.1., of the Alert Telexes, make a placard that states “DO NOT OPERATE DOOR IN FLIGHT” and attach it to the inside of the sliding door. The lettering on the placard must be at least ¼-inch tall and obvious to the crew.

(2) If the sliding door is placarded to prohibit door operation during flight, it is not necessary to measure the roller or rail.

Note 2: Replacing the worn parts does not terminate the requirement to make the measurements required by paragraph (a) of this AD at intervals not to exceed 100 hours TIS.

(b) An alternative method of compliance or adjustment of the compliance time that provides an acceptable level of safety may be used if approved by the Manager, Rotorcraft Standards Staff, Rotorcraft Directorate, FAA. Operators shall submit their requests through an FAA Principal Maintenance Inspector, who may concur or comment and then send it to the Manager, Rotorcraft Standards Staff.

Note 3: Information concerning the existence of approved alternative methods of compliance with this AD, if any, may be obtained from the Rotorcraft Standards Staff.

(c) Special flight permits may be issued in accordance with 14 CFR 21.197 and 21.199 to operate the helicopter to a location where the requirements of this AD can be accomplished, so long as the cabin door is not operated during the flight.

(d) The measuring shall be done in accordance with Eurocopter Alert Telex No. 05.00.41, applicable to Model AS350 helicopters, and Eurocopter Alert Telex No. 05.00.39, applicable to Model AS355 helicopters, both dated May 16, 2002. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on February 10, 2003.

Note 4: The subject of this AD is addressed in Direction Generale De L'Aviation Civile (France) AD No. 2002-344-093(A), applicable to Model AS350 helicopters, and AD No. 2002-345-070(A), applicable to Model AS355 helicopters, both dated June 26, 2002.

Issued in Fort Worth, Texas, on January 11, 2003.
David A. Downey,
Manager, Rotorcraft Directorate, Aircraft Certification Service.

[FR Doc. 03-1190 Filed 1-23-03; 8:45 am]

BILLING CODE 4910-13-P